ADVISORY COUNCIL ON HISTORIC PRESERVATION

Notice of ACHP Quarterly Business Meeting

AGENCY: Advisory Council on Historic Preservation.

ACTION: Notice.

SUMMARY: Notice is hereby given that the Advisory Council on Historic Preservation (ACHP) will meet.

Friday, March 1, 2013. The meeting will be held in the Room SR325 at the Russell Senate Office Building at Constitution and Delaware Avenues NE., Washington, DC at 8:30 a.m.

The ACHP was established by the National Historic Preservation Act of 1966 (16 U.S.C. 470 et seq.) to advise the President and Congress on national historic preservation policy and to comment upon federal, federally assisted, and federally licensed undertakings having an effect upon properties listed in or eligible for inclusion in the National Register of Historic Places. The ACHP's members are the Architect of the Capitol; the Secretaries of the Interior, Agriculture, Defense, Housing and Urban Development, Commerce, Education, Veterans Affairs, and Transportation; the Administrator of the General Services Administration; the Chairman of the National Trust for Historic Preservation; the President of the National Conference of State Historic Preservation Officers; a Governor; a Mayor; a Native American; and eight non-federal members appointed by the President.

Call to Order—8:30 a.m.

I. Chairman's Welcome

II. Swearing in Ceremony

III. Secretary of the Interior's Historic Preservation Awards

IV. Chairman's Report

V. ACHP Management Issues

A. ACHP FY 2013 and 2014 Budget

B. Alumni Foundation Report

VI. Historic Preservation Policy and Programs

A. ACHP Plan To Support the United Nations Declaration on the Rights of Indigenous Peoples

B. Memorandum of Understanding Regarding Coordination and Collaboration for the Protection of Indian Sacred Sites

C. Administration's Tribal Goals

D. Planning for 50th Anniversary of the National Historic Preservation Act

E. Building a More Inclusive Preservation Program—Civil War to Civil Rights Initiative

F. Future Directions for the ACHP in Sustainability

G. Rightsizing Task Force Report

H. ACHP Legislative Agenda

a. Amendments to the National Historic Preservation Act

b. Recent Legislation Related to Historic Preservation

I. Planning for 10th Anniversary of the Preserve America Program

VII. Section 106 Issues

A. Government Accountability Office Report on Federal Historic Property Management

B. Section 106 Issues in the Second Term: Administration Initiatives and Federal Budget Austerity

VIII. New Business

IX. Adjourn

The meetings of the ACHP are open to the public. If you need special accommodations due to a disability, please contact the Advisory Council on Historic Preservation, 1100 Pennsylvania Avenue NW., Room 803, Washington, DC, 202-606-8503, at least seven (7) days prior to the meeting.

FOR FURTHER INFORMATION CONTACT: Additional information concerning the meeting is available from the Executive Director, Advisory Council on Historic Preservation, 1100 Pennsylvania Avenue NW., #803, Washington, DC 20004.

Dated: February 12, 2013.
John M. Fowler,
Executive Director.

[FR Doc. 2013-03674 Filed 2-15-13; 8:45 am]

BILLING CODE 4310-K6-P